DEPARTMENT OF TRANSPORTATION

Office of the Secretary

Aviation Proceedings, Agreements Filed the Week Ending March 21, 2008

The following Agreements were filed with the Department of Transportation under the Sections 412 and 414 of the Federal Aviation Act, as amended (49 U.S.C. 1383 and 1384) and Procedures Governing Proceedings To Enforce These Provisions. Answers May Be Filed Within 21 Days After the Filing of the Application.

Docket Number: DOT-OST-2008-0108.

Date Filed: March 17, 2008.

Parties: Members of the International Air Transport Association.

Subject: TC12 North Atlantic-Africa, (except between USA and Reunion), Resolutions and Specified Fares Tables, (Memo 0263). Minutes: TC12 North, Mid, South Atlantic—Middle East, TC12 North, Mid, South Atlantic—Africa, (Memo 0267 / 0283). Intended effective date: 1 May 2008.

Docket Number: DOT-OST-2008-0109.

Date Filed: March 17, 2008.

Parties: Members of the International Air Transport Association.

Subject: TC12 North Atlantic-Africa between USA and Reunion, Resolutions and Specified Fares Tables, (Memo 0264). Minutes: TC12 North, Mid, South Atlantic—Middle East, TC12 North, Mid, South Atlantic—Africa, (Memo 0267 / 0283). Intended effective date: 1 May 2008.

Docket Number: DOT-OST-2008-0110.

Date Filed: March 17, 2008.

Parties: Members of the International Air Transport Association.

Subject: TC12 Mid Atlantic-Africa, Resolutions and Specified Fares Tables, (Memo 0265). Minutes: TC12 North, Mid, South Atlantic—Middle East, TC12 North, Mid, South Atlantic—Africa, (Memo 0267 / 0283). Intended effective date: 1 May 2008.

Docket Number: DOT-OST-2008-0111.

Date Filed: March 17, 2008.

Parties: Members of the International Air Transport Association.

Subject: TC12 South Atlantic-Africa, Resolutions and Specified Fares Tables, (Memo 0266). Minutes: TC12 North, Mid, South Atlantic—Middle East, TC12 North, Mid, South Atlantic—Africa, (Memo 0267 / 0283). Intended effective date: 1 May 2008.

Docket Number: DOT-OST-2008-0116.

Date Filed: March 19, 2008.

Parties: Members of the International Air Transport Association.

Subject: Mail Vote 564 TC3 Within South West Pacific Passenger, Revalidating Resolution (Memo 1167). Intended effective date: 1 April 2008.

Renee V. Wright,
Program Manager, Docket Operations, Federal Register Liaison.

[FR Doc. E8-13512 Filed 6-13-08; 8:45 am]

BILLING CODE 4910-9X-P